SECURITIES AND EXCHANGE COMMISSION

[SEC File No. 270-658 OMB Control No. 3235-0716]

Proposed Collection; Comment Request

Upon Written Request Copies Available From: Securities and Exchange Commission, Office of FOIA Services, 100 F Street NE, Washington, DC 20549-2736.

Extension:

Form C

Notice is hereby given that, pursuant to the Paperwork Reduction Act of 1995 (44 U.S.C. 3501 et seq.), the Securities and Exchange Commission (“Commission”) is soliciting comments on the collection of information summarized below. The Commission plans to submit this existing collection of information to the Office of Management and Budget for extension and approval.

Form C (17 CFR 239.900) is used by issuers offering securities in reliance on the crowdfunding exemption in Section 4(a)(6) (15 U.S.C. 77d(a)(6)) of the Securities Act of 1933 (“Securities Act”) (15 U.S.C. 77a et seq.) Form C will also be used by issuers that have completed transactions in reliance on Section 4(a)(6) to file annual reports or to provide notice of the termination of reporting obligations.. The information collected is intended to create a framework for the filing and disclosure requirements of Title III Section 4A of the Jumpstart Our Business Startups Act (Pub. L. 112-106, 126 Stat. 306) to implement the exemption from Securities Act registration for offerings made in reliance on Section 4(a)(6). Form C takes approximately 48.96969 hours per response and is filed by approximately 5,852 respondents. We estimate that 75% of the 48.96969 hours per response (36.72727 hours) is prepared by the issuer for a total annual reporting burden of 214,928 hours (36.72727 hours per response × 5,852 responses).

Written comments are invited on: (a) Whether this proposed collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology. Consideration will be given to comments and suggestions submitted in writing within 60 days of this publication.

An agency may not conduct or sponsor, and a person is not required to respond to, a collection of information unless it displays a currently valid control number.

Please direct your written comment to Charles Riddle, Acting Director/Chief Information Officer, Securities and Exchange Commission, c/o Candace Kenner, 100 F Street NE, Washington, DC 20549 or send an email to: PRA_Mailbox@sec.gov.

Dated: February 22, 2019.
Eduardo A. Aleman,
Deputy Secretary.

[FR Doc. 2019-03394 Filed 2-26-19; 8:45 am]

BILLING CODE 8011-01-P